DEPARTMENT OF COMMERCE

International Trade Administration

[Docket No.: 170413395-7395-01]

RIN 0625-XC034

2017 Fee Schedule for National Travel and Tourism Office for the Advance Passenger Information System (APIS)/I-92 Program, I-94 International Arrivals Program, and Survey of International Air Travelers Program

AGENCY: International Trade Administration, U.S. Department of Commerce.

ACTION: Notice of revised fee schedule with request for comments.

SUMMARY: Consistent with the guidelines in OMB Circular A-25, federal agencies are responsible for conducting a biennial review of all programs to determine the types of activities subject to user fees and the basis upon which user fees are to be set. The U.S. Department of Commerce, International Trade Administration (ITA), National Travel and Tourism Office (NTTO) is raising the fees for 2017 data for the monthly, quarterly or annual data from the APIS/I-92 Program, the I-94 International Arrivals Program, and the annual custom reports, data tables or files from the Survey of International Air Travelers Program.

As part of the fee review process, the NTTO is providing industry with the opportunity to comment on the fee schedule and to provide any suggestions for reducing the costs of NTTO programs. NTTO may reassess the fees as appropriate.

DATES: Comments must be received by July 26, 2017.

ADDRESSES: You may submit comments by either of the following methods:

• Federal eRulemaking Portal: www.Regulations.gov. The identification number is ITA-2017-0005.

• Postal Mail/Commercial Delivery: Docket No. ITA-2017-0005 International Trade Administration, 1401 Constitution Avenue NW., Room 1003, Washington, DC 20230.

Instructions: You must submit comments by one of the above methods to ensure that the comments are received and considered. Comments sent by any other method, to any other address or individual, or received after the end of the comment period, may not be considered. All comments received are a part of the public record and will generally be posted to www.regulations.gov without change. All Personal Identifying Information (for example, name, address, etc.) voluntarily submitted by the commenter may be publicly accessible. Do not submit Confidential Business Information or otherwise sensitive or protected information. ITA will accept anonymous comments (enter “N/A” in the required fields if you wish to remain anonymous). Attachments to electronic comments will be accepted in Microsoft Word, Excel, or Adobe PDF file formats only. Supporting documents and any comments we receive on this docket may be viewed at https://www.regulations.gov/docket?D=ITA-2017-0005.

FOR FURTHER INFORMATION CONTACT: Richard Champley at (202) 482-4753 or Richard.Champley@trade.gov; or Claudia Wolfe at (202) 482-4555 or Claudia.Wolfe@trade.gov.

SUPPLEMENTARY INFORMATION:

Background: Consistent with the guidelines in OMB Circular A-25,¹ federal agencies are responsible for conducting a biennial review of all programs to determine the types of activities subject to user fees and the basis upon which user fees are to be set.

¹ https://www.whitehouse.gov/omb/circulars_a025.

In addition to OMB Circular A-25, the NTTO also follows OMB Circular A-130, which mandates federal agencies to develop and to maintain a comprehensive set of information management policies for use across the government, and to promote the application of information technology to improve the use and dissemination of information in the operation of Federal programs. The role of NTTO is to enhance the international competitiveness of the U.S. travel and tourism industry and to increase its exports, thereby creating U.S. employment and economic growth. The primary functions of the NTTO are: (1) Management of the travel and tourism statistical system for assessing the economic contribution of the industry and providing the sole source for characteristic statistics on international travel to and from the United States; (2) design and administration of export expansion activities; (3) development and management of tourism policy, strategy and advocacy; and (4) technical assistance for expanding this key export (international tourism) and assisting in domestic economic development.

The NTTO has provided this data for many years and has developed a subscriber base for each of these programs. The fees collected for these reports go to pay for ITA costs to develop the reports as well as to support research for the continuation and expansion of improvements to the data provided by NTTO. In 2016, the NTTO issued a request for proposal for the 2017-2019 SIAT and I-94 data. The contractor prices for the SIAT base program are six percent greater than the 2016 contract prices and 27 percent greater for the I-94 program. This increase is due in part to increased quality management checks associated with this program. Additionally, there is a nearly 30 percent increase in the cost for custom reports for both programs. This was due to the additional work required by the contractor due to the additional sample and additional time the contractor took to finalize report formats and then issue them. Thus, the Department must increase fees to fulfill its Congressional mandate to continue and expand its market research under the Travel Promotion Act of 2009 [P.L. 111-145].

Additionally, for 2017, to help ameliorate the increased costs while keeping the program fees as low as possible, the SIAT sample for 2017 will be cut from 96,000 surveys in 2016 to 77,000 surveys in 2017. It is anticipated that the 2018 sample level will be similar depending upon the FY2018 budget. The increased fees for 2017 are necessary to avoid additional cuts. However, the NTTO would also be interested in the industry's preference on a cut in sample as a method to keep the fee increases lower versus higher fees.

There are three main research programs in which the public may obtain additional data on international travelers to and from the United States in addition to the free information already posted to the NTTO Web site. The proposed 2017 fees are for the monthly, quarterly or annual data from the APIS/I-92 Program, the I-94 International Arrivals Program, and the annual custom reports, data tables or files from the Survey of International Air Travelers Program.

The APIS/I-92 program is a joint effort between the Department of Homeland Security Customs and Border Protection (CBP) and the NTTO to provide international air traffic statistics data to the government and the travel industry. The system is a source of data on all international flights to and from the United States, including flights with fewer than 10 passengers. It reports the total volume of air traffic and various subsets of traffic. A differentiating feature of the I-92, compared to the T-100 (international nonstop segment and on-flight market data), is that the I-92 reports the number of U.S. citizens vs. “all other citizens.”

The information collected from this program has been based upon the Advance Passenger Information System (APIS) since July 2010. All carriers serving the United States must transmit APIS data (from their automated flight manifests) to CBP for each flight coming to or departing from the United States, including Canada. The information collected provides non-stop point-to-point air traffic totals between the United States and all other countries and between U.S. and foreign airports. Subsets of this information regarding the number of passengers on U.S. flag or foreign flag carriers are also made available. In addition, there is a breakout of scheduled or charter flight passengers.

In the monthly, quarterly and annual I-92 reports, there are four sets of tables. The first three sets have an arrivals portion (Ia, IIa, and IIIa), as well as a departures section (Id, IId, and IIId). The fourth table is a summary of traffic by flag of carrier. To learn more about this program, go to: http://travel.trade.gov/research/programs/i92/index.asp. The current 2016 and historical fees (1990-2015) for this program can be found at: http://travel.trade.gov/research/reports/i92/index.asp. Each fee service will be provided at a 15 percent fee increase from 2016 to 2017. Fee increases for the APIS/I-92 program are being increased to help offset an ITA budget cut and the much larger increases in costs to the I-94 and SIAT program, because all three programs are interdependent upon one another and used to provide the SIAT data.

The I-94 International Arrivals Program is a core part of the U.S. travel and tourism statistical system. This program provides the U.S. government and the public with the official U.S. monthly and annual overseas visitor arrivals to the United States along with select Mexican and Canadian visitor statistics. The NTTO manages the program in cooperation with the CBP. The program collects and reports overseas non-U.S. resident visitor arrivals to the United States. U.S. government data consists of the DHS I-94 data, which non-U.S. citizens from overseas and Mexico (Canada is excluded) must complete to enter the United States. All visitation data is processed by residency (world region and country), for total arrivals, type of visa, mode of transportation, age of traveler, address (state level only) while in the United States port of entry, and select percentage change comparisons year-over-year. The information is presented in a report entitled the Summary of International Travel to the United States with 35 tables including the categories above. NTTO publishes arrivals data to its Web site on a monthly basis, and reports and custom reports or tables are available on a monthly, quarterly or annual basis. More information about this program is available at http://travel.trade.gov/research/programs/i94/index.asp. The current 2016 and historical fees (1992-2015) for this program can be found at: http://travel.trade.gov/research/reports/i94/index.html.

As stated above, each fee service will be provided at a 15 percent fee increase from 2016 to 2017.

The Survey of International Air Travelers Program is a primary research program which gathers statistical data about air passenger travelers in U.S.—overseas and Mexican air markets (Canada is excluded). The program also serves as the cornerstone for NTTO's efforts to assist U.S. businesses to improve their competitiveness and effectiveness in the international travel market.

The Survey is conducted on selected flights which have departed, or are about to depart, from the major U.S. international gateway airports. The Survey is administered either aboard flights or in the airport gate area, of the over 100 participating airlines (foreign and U.S.) departing 27 U.S. international gateways. The Survey data is “weighted” to census data. For example, non-resident inbound survey responses are weighted to the “100%” population of DHS I-94 arrival records to adjust for over and under sampling. Resident outbound data is weighted based on DHS I-92 U.S. departure data. Data are available on a quarterly and annual basis for either non-resident inbound or resident outbound. It can be delivered in a standard national report format or as a custom report, data table, or excel. Data files are also available. To learn more about this program, go to: http://travel.trade.gov/research/programs/ifs/index.asp. The current 2016 and historical fees (1983-2015) for this program can be found at: http://travel.trade.gov/research/reports/ifs/index.asp. When viewing the current fee structure for the SIAT reports, the tables will show there is no fee increase for the vast majority of the standard published reports and their corresponding Excel tables for which the fees have remained constant for the last five years. The only reports or data for which the NTTO is revising the fees are shown below.

Fee Schedule increases for the APIS/I-92 program, the I-94 International Arrivals Program and the Survey of International Air Travelers (SIAT) Program are shown in the tables below. All fees shown are 15 percent greater in 2017 than in 2016, except for certain SIAT reports as explained above. For the I-94 program, the NTTO is eliminating the print files and will only provide a PDF and Excel file to save costs. The custom reports, data tables and files will also see a 15 percent fee increase in 2017.

APIS/I-92 Program | 2017 Fee | 2016 Fee
Monthly Reports printed | $2,295 | $1,995
Monthly Reports (PDF and Excel) | 3,435 | 2,985
Quarterly Reports printed | 2,070 | 1,800
Quarterly Reports (PDF and Excel) | 3,095 | 2,690
Annual Report printed | 1,610 | 1,400
Annual Report (PDF and Excel) | 2,405 | 2,090
Data Files, for internal use only | 27,310 | 23,745

I-94 International Arrivals program | 2017 Fee | 2016 Fee
Monthly Subscription (PDF and Excel) | $2,450 | $2,130
Quarterly Subscription (PDF and Excel) | 2,155 | 1,870
Annual Issue (PDF and Excel) | 1,485 | 1,290
Annual, data file (CD-ROM) | 16,770 | 14,580
Quarterly, data file (CD-ROM) | 18,820 | 16,365
Combined 2015 and 2016 International I-94 Arrivals Data | 2017 Fee | 2016 Fee
Monthly Subscription (PDF and Excel) | $3,730 | $3,240
Quarterly Subscription (PDF and Excel) | 3,170 | 2,755
Annual Issue (PDF and Excel) | 2,000 | 1,740

Survey of International Air Travelers program | 2017 Fee | 2016 Fee
CUSTOM TABLE—1st table, in Excel | $2,720 | $2,365
CUSTOM TABLE—all other tables in Excel | 1,645 | 1,430
Custom Reports with Excel and PDF (First banner) | 10,210 | 8,875
Custom Reports with Excel and PDF (Second banner) | 9,185 | 7,985
Custom Reports with Excel and PDF (Third + banners) | 8,220 | 7,145

Method for Determining Fees: ITA collects, retains, and expends user fees pursuant to delegated authority under the Mutual Educational and Cultural Exchange Act as authorized in its annual appropriations acts.

Last year as part of a fee review in compliance with Office of Management and Budget Circular No. A-25, the International Trade Administration assessed the costs of its programs and the fees it collects. In 2016, NTTO increased fees by five percent, explaining the increased fees were necessary for NTTO to be in compliance with Circular A-25 (81 FR 39895, June 20, 2016). In 2016, and the NTTO sold a few more reports in 2016 than it did in previous years.

For each program, NTTO has a set of subscribers who have been using this data, some for decades. Since 2000, fees have increased by 10 percent or more six times. Most rely upon this data as the only federal source to define the international travel market to this country. Additionally, the power of the SIAT program is that it can provide estimates by world region and country of the number of overseas travelers who visit U.S. census regions, states, territories, or cities. But the program provides far more than an estimated number. The responses to questions asked of the overseas visitors also help explain why the visitation numbers have increased or declined over the previous years due to the shifts in the traveler characteristics of the visitors between the two years. It may be a shift in visitors' ports of entry or purpose of trip; changes in the mix of first time or repeat visitors, or package or independent travelers; shifts in modes of transport used by visitors to travel within the country; or a shift to more or fewer destinations visited, compared to previous trips.

Fees are set considering the cost of providing this data. Most of the NTTO research is implemented from fixed price contacts. Within the contracts are built-in cost adjustments. The NTTO considers the current demand for each program by comparing changes from one year to the next before setting fees. We also consider if there have been decreases in timeliness or quality of service delivery or improvements made to the programs like new report formats, more travelers surveyed, or other enhancements to the research data provided. The NTTO staff considered the purchasing constraints experienced by current or potential subscribers (such as limits to purchase by credit card, or sole source/open bid requirements) and factored in the annual percentage change in the Consumer Price Index (used to determine rate of inflation).

In the analysis of these fees, it was determined that the services provided from this report offer special benefits to an identifiable recipient beyond those that accrue to the public.

ITA completed an analysis that calculated the actual cost of providing its data services to develop a basis for setting the fee. Full cost incorporates direct and indirect costs (including operations and maintenance), overhead, and charges for the use of capital facilities. ITA also considered additional factors when pricing goods and services, including adequacy of cost recovery, affordability, available efficiencies, inflation, pricing history, fee elasticity, and service delivery alternatives.

Finally, the NTTO staff members watch what is happening in the industry. If our clients' budgets are being cut or increased, this too is considered. We watch what is happening in terms of international travel to the country as well. If there are large increases in travel to the United States, there tends to be corresponding increases in the international market. In contrast, in years international travel slows or declines, we factor this in when determining fees. Based upon all this input, we develop several options for cost increases or decreases and determine fees.

Conclusion

Based on the information provided above, the NTTO believes its revised fees are consistent with the objective of OMB Circular A-25 to “promote efficient allocation of the nation's resources by establishing charges for special benefits provided to the recipient that are at least as great as the cost to the U.S. Government of providing the special benefits . . . ” OMB Circular A-25(5)(b). However, as stated above, we are providing the public with the opportunity to comment and will reassess the revised fees as appropriate.

Dated: June 8, 2017.
Isabel Hill,
Director, National Travel & Tourism Office, International Trade Administration, U.S. Department of Commerce.

[FR Doc. 2017-13427 Filed 6-23-17; 8:45 am]

BILLING CODE 3510-DR-P